DEPARTMENT OF TRANSPORTATION

Federal Motor Carrier Safety Administration

[Docket No. FMCSA-2024-0317]

Hours of Service: Colorado Huntsman Transport, Inc.; Application for Exemption

AGENCY: Federal Motor Carrier Safety Administration (FMCSA), Department of Transportation (DOT).

ACTION: Notice of application for exemption; request for comments.

SUMMARY: The Federal Motor Carrier Safety Administration (FMCSA) requests public comment on the application from Colorado Huntsman Transport, Inc. d.b.a. Huntsman Transport, USDOT 4050798 (“Huntsman Transport”), for an exemption from the commercial motor vehicle (CMV) marking requirements and hours of service prohibition against driving a CMV after accumulating 60 hours of on-duty time within 7 consecutive days.

DATES: Comments must be received on or before April 28, 2025.

ADDRESSES: You may submit comments identified by Federal Docket Management System (FDMS) Number FMCSA-2024-0317 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: West Building, Ground Floor, 1200 New Jersey Avenue SE, between 9 a.m. and 5 p.m. E.T., Monday through Friday, except Federal holidays.

• Fax: (202) 493-2251.

Each submission must include the Agency name and the docket number (FMCSA-2024-0317) for this notice. Note that DOT posts all comments received without change to www.regulations.gov, including any personal information included in a comment. Please see the Privacy Act heading below.

Docket: For access to the docket to read background documents or comments, go to www.regulations.gov at any time on the ground level of the West Building, 1200 New Jersey Avenue SE, Washington, DC, between 9 a.m. and 5 p.m., ET, Monday through Friday, except Federal holidays. To be sure someone is there to help you, please call (202) 366-9317 or (202) 366-9826 before visiting Dockets Operations.

FOR FURTHER INFORMATION CONTACT: Bernadette Walker, Driver and Carrier Operations Division; Office of Carrier, Driver and Vehicle Safety Standards, FMCSA; (202) 385-2415; bernadette.walker@dot.gov. If you have questions on viewing or submitting material to the docket, contact Dockets Operations at (202) 366-9826.

SUPPLEMENTARY INFORMATION:

I. Public Participation and Request for Comments

FMCSA encourages you to participate by submitting comments and related materials.

A. Submitting Comments

If you submit a comment, please include the docket number for this notice (FMCSA-2024-0317), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov, insert the docket number (FMCSA-2024-0317) in keyword box, and click on this notice, click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or brian.g.dahlin@dot.gov. At this time, you need not send a duplicate hardcopy of your electronic CBI submissions to FMCSA headquarters. Any comments FMCSA receives not specifically designated as CBI will be placed in the public docket for this notice.

C. Viewing Comments and Documents

To view comments, as well as any documents mentioned in this preamble as being available in the docket, go to https://www.regulations.gov, insert FMCSA-2024-0317 in the keyword box, select the document tab, and choose the document to review. To view comments, click this notice, then click “Browse Comments.” If you do not have access to the internet, you may view the docket online by visiting Docket Operations on the ground floor of the DOT West Building, 1200 New Jersey Avenue SE, Washington, DC 20590-0001, between 9 a.m. and 5 p.m., ET Monday through Friday, except Federal holidays. To be sure someone is there to help you, please call (202) 366-9317 or (202) 366-9826 before visiting Dockets Operations.

D. Privacy

In accordance with 5 U.S.C. 553(c), DOT solicits comments from the public to better inform its regulatory process. DOT posts these comments, including any personal information the commenter provides, to www.regulations.gov, as described in the system of records notice DOT/ALL 14 (Federal Docket Management System (FDMS)), which can be reviewed under the “Department Wide System of Records Notices” at https://www.transportation.gov/individuals/privacy/privacy-act-system-records-notices. The comments are posted without edit and are searchable by the name of the submitter.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews safety analyses and public comments submitted and determines whether granting the exemption would likely maintain a level of safety equivalent to, or greater than, the level that would be achieved by the current regulation (49 CFR 381.305(a)). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Request

Huntsman Transport seeks an exemption from the requirement in 49 CFR 390.21 that CMVs must be marked with the legal name or single trade name and USDOT number of the motor carrier. The applicant also requests a customized HOS framework under 49 CFR part 395 to allow employees to accumulate up to 80 hours of on duty time within a 7-day period, from Sunday to Saturday, before driving is prohibited and incorporate team driving without a sleeper berth.

Under 49 CFR 395.5(b), passenger carrying CMV drivers may not drive after having been on duty 60 hours in any 7 consecutive days if the motor carrier does not operate CMVs every day of the week or after having been on duty 70 hours in any period of 8 consecutive days if the employing motor carrier operates CMVs every day of the week. Huntsman Transport is a third-party organization that partners with Federal, State, and Local law enforcement agencies to provide prisoner transportation services.

The applicant requests an exemption from the CMV marking requirements due to the sensitive and high-risk nature of its operations and the potential for interference with its routes by individuals who may seek to disrupt its operations. In addition, the applicant requests an exemption from the maximum driving time limits due to the unpredictable schedules of prisons. The applicant states that longer transit times pose a significant risk to public safety. The applicant cites several benefits to the requested exemption, including less time for violent prisoners to escape while in transport, lower costs due to shorter travel times, expediting the return of innocent prisoners, more time off for employees, and fewer delays in achieving closure for victims of crimes.

The applicant states further that if the exemption is not granted, law enforcement and the people who pay for these vital services—transport partners and taxpayers—will be subjected to a greater burden. This growth of expenses will also affect their business, putting a strain on their budget and making it difficult to pay for essential operating expenses.

Applicant's Equivalent Level of Safety

Huntsman Transport believes the exemption would not compromise safety because it requires all inmate transports that last longer than two days to use two agents. This makes it possible for efficient driver rotations that lessen fatigue by guaranteeing that each driver has a committed companion who can relax in the passenger seat. Depending on operational requirements, the applicant encourages drivers to switch every three to five hours, which encourages necessary breaks and improves overall road safety and efficiency. In addition, each employee may drive individually for no more than 8 hours per day and must spend at least 8 hours off duty in a hotel environment.

Lastly, the applicant has implemented a policy that restricts agents' driving responsibilities to no more than three weeks in any four-week month or four weeks in any five-week month, to guarantee that both drivers have enough time to rest. The applicant usually has a two-week driving schedule with a week off in between. This enables Huntsman Transport agents to take 16 weeks off each year before using their paid time off. The applicant believes that granting the exemption would not jeopardize safety; instead, it would improve its ability to protect its drivers, prisoners in their custody, and the general public from potential threats.

A copy of Huntsman Transport's application for exemption is available for review in the docket for this notice.

IV. Request for Comments

In accordance with 49 U.S.C. 31315(b), FMCSA requests public comment on Huntsman Transport's application from the vehicle marking requirements in 49 CFR 390.21 and the 60- and 70-hour limits in 49 CFR 395.5(b). All comments received before the close of business on the comment closing date will be considered and will be available for examination in the docket at the location listed under the ADDRESSES section of this notice. Comments received after the comment closing date will be filed in the public docket and will be considered to the extent practicable. In addition to late comments, FMCSA will continue to file relevant information that becomes available after the comment closing date in the public docket. Interested persons should continue to examine the public docket for new material.

Larry W. Minor,
Associate Administrator for Policy.

[FR Doc. 2025-05361 Filed 3-27-25; 8:45 am]

BILLING CODE 4910-EX-P